SMALL BUSINESS ADMINISTRATION

Meeting of the Advisory Committee on Veterans Business Affairs

AGENCY: U.S. Small Business Administration.

ACTION: Notice of open Federal Advisory Committee meeting.

SUMMARY: The U.S. Small Business Administration (SBA) is issuing this notice to announce the location, date, time, and agenda for the next meeting of the Advisory Committee on Veterans Business Affairs. The meeting is open to the public.

DATES: Thursday, September 7, 2017, from 9:00 a.m. to 4:00 p.m.

ADDRESSES: U.S. Small Business Administration, 409 3rd Street SW., Washington, DC 20416. Where: Eisenhower Conference Room B, located on the concourse level.

Contact Info: (Teleconference Dial-in) 1-888-858-2144, Access Code: 7805798 (Webinar) https://connect16.uc.att.com/sba/meet/?ExEventID=87805798&CT=W, Access Code: 7805798.

SUPPLEMENTARY INFORMATION: Pursuant to section 10(a)(2) of the Federal Advisory Committee Act (5 U.S.C., Appendix 2), SBA announces the meeting of the Advisory Committee on Veterans Business Affairs (ACVBA). The ACVBA is established pursuant to 15 U.S.C. 657(b) note, and serves as an independent source of advice and policy. The purpose of this meeting is to discuss veteran and service-disabled veteran entrepreneurship. The agenda includes reports from the SBA Offices of Veterans Business Development, Government Contracting and Business Development, Capital Access and Advocacy.

Additional Information: This meeting is open to the public. Advance notice of attendance is requested. Anyone wishing to attend and/or make comments to the ACVBA should contact SBA's Office of Veterans Business Development no later than September 1, 2017 at veteransbusiness@sba.gov. Comments for the record will be limited to five minutes to accommodate as many participants as possible. Written comments should be sent to the above by September 1, 2017. Special accommodation requests should also be directed to SBA's Office of Veterans Business Development at (202) 205-6773 or veteransbusiness@sba.gov. For more information on veteran owned small business programs, please visit www.sba.gov/veterans.

Dated: August 4, 2017.
Richard W. Kingan,
SBA Committee Management Officer.

[FR Doc. 2017-17297 Filed 8-15-17; 8:45 am]

BILLING CODE 8025-01-P